NUCLEAR REGULATORY COMMISSION

[Docket No. 030-08219]

U.S. Environmental Protection Agency, Denver Federal Center, Building 53: Issuance of Environmental Assessment and Finding of No Significant Impact for License Amendment

AGENCY: Nuclear Regulatory Commission.

ACTION: Issuance of Environmental Assessment and Finding of No Significant Impact.

FOR FURTHER INFORMATION CONTACT: D. Blair Spitzberg, Ph.D., Chief, Fuel Cycle and Decommissioning Branch, Division of Nuclear Materials Safety, Region IV, U.S. Nuclear Regulatory Commission, Arlington, Texas 76011. Telephone: (817) 860-8191; fax number: (817) 860-8188; e-mail: dbs@nrc.gov.

SUPPLEMENTARY INFORMATION:

I. Introduction

The U.S. Nuclear Regulatory Commission (NRC) is considering issuance of an amendment to Material License No. 05-14892-01, as requested by the U.S. Environmental Protection Agency (EPA or the licensee), to authorize release of Building 53 at Denver Federal Center, Denver, Colorado, for unrestricted use. The licensee has been authorized by NRC to use radioactive material for instrument calibration and sample analyses at this location. On August 9, 2004, EPA requested that NRC release the facility for unrestricted use. The licensee conducted radiological surveys of the facility and provided information to demonstrate that the site meets the license termination criteria specified in Subpart E to 10 CFR part 20 for unrestricted release. The amendment will be issued if NRC determines that the request meets the standards specified in 10 CFR Part 20 and related NRC guidance documents.

II. Environmental Assessment (EA)

Identification of Proposed Action: The proposed action is to remove Building 53 from License Condition 10 as a location of use. Once the building is removed from the license, the licensee will be free to use the building in any manner without NRC restriction.

The Need for the Proposed Action: The licensee no longer conducts licensed activities in this building. The EPA has vacated the building and desires to release the building for unrestricted use. If the site is properly decommissioned, the licensee would then be in compliance with the Timeliness Rule requirements of 10 CFR 30.36, “Expiration and Termination of Licenses and Decommissioning of Sites and Separate Buildings or Outdoor Areas.”

Environmental Impacts of the Proposed Action: Materials License No. 05-14892-01 authorizes EPA to possess small quantities of radioactive material, in both sealed and unsealed form, for instrument calibration and sample analysis. By letter dated August 9, 2004, EPA requested amendment of its license to remove Building 53 as a location of use. Radioactive materials were used in this building from about 1973 until 2003. All radioactive materials were relocated to Building 25 by August 2003.

The licensee conducted a historical review and concluded that the radionuclides of concern were americium-241, strontium-90, natural uranium, radium-226, and radium-228. Based on the historical review, the licensee determined that radioactive materials were used in eight laboratories in Building 53.

A final status survey of the building was conducted during February-March 2004. The final status survey was conducted in five of the eight laboratories. Two rooms were excluded because only sealed sources had been used in these rooms. A third room was excluded because only radioactivity at background levels were stored in this room. (The NRC's confirmatory survey included all eight rooms.) A final status survey report was completed by the licensee, and a copy of the report was attached to the licensee's August 9, 2004, letter.

The EPA concluded in its report that “Building 53 meets the criteria for radiological release * * * thus allowing the facility to be released for unrestricted use and to be removed from the EPA's NRC Radioactive Material License.” The NRC conducted a confirmatory survey of the building during October 2005. None of the confirmatory sample results exceeded the proposed derived concentration guideline levels (DCGLs) provided in the final status survey report.

In its final status survey report, the licensee stated that radioactive waste material from previously licensed operations in Building 53 was either transferred to an authorized recipient or placed into temporary storage. Solid waste disposal did not include on-site burial or incineration. Discharges to sewers were not allowed by the licensee's waste disposal program, and no record of disposal by sewer was identified by the licensee during its historical review. Further, no incidents were recorded involving spills or releases of radioactive material.

To demonstrate compliance with the radiological criteria for unrestricted use as specified in 10 CFR 20.1402, the licensee developed DCGLs. The NRC compared the licensee's proposed DCGLs to the screening criteria provided in NUREG-1757, “Consolidated NMSS Decommissioning Guidance,” Volume 2. The NRC concluded that the proposed DCGLs were acceptable for use as release criteria.

In the final status survey report, the licensee states that radioactive materials were handled only within the eight rooms identified in the historical review. In addition, the licensee did not dispose of radioactive material through the sewer system, and no spills were documented. Accordingly, there were no environmental impacts from the use of radioactive material in Building 53. The NRC staff reviewed the docket file records and the final status survey report to identify any non-radiological hazards that may have impacted the environment. No additional hazards or impacts to the environment were identified.

Environmental Impacts of the Alternatives to the Proposed Action: The licensee seeks NRC approval of the amendment request. The alternatives to the proposed action are: (1) The no-action alternative, or (2) to deny the amendment request and require the licensee to take some alternate action.

1. No-Action Alternative: One alternative available to the NRC is to take no action by denying the amendment request. The no-action alternative is not feasible because it conflicts with the NRC's Timeliness Rule (10 CFR 30.36) which requires licensees to decommission their facilities when licensed activities cease.

2. Environmental Impacts of Alternative 2: A second alternative is to deny the licensee's request in favor of alternate release criteria as allowed by § 20.1403 (criteria for restricted conditions) or § 20.1404 (alternate criteria). However, the NRC's analysis of the final status survey data confirmed that the proposed DCGLs meet the license termination requirements of § 20.1402. Accordingly, the NRC has determined that the second alternative is not reasonable, and this alternative action is eliminated from further consideration.

Conclusion: Based on its review, the NRC staff concludes that the environmental impacts associated with the proposed action do not warrant denial of the license amendment request. The staff believes that the proposed action will result in no environmental impacts. The staff has determined that approval of the license amendment is the appropriate alternative for selection.

Agencies and Persons Contacted: The NRC staff did not consult with the Colorado State Historic Preservation Officer or the local U.S. Fish & Wildlife Service because licensed activities occurred only within Building 53. There was no evidence of use or release of radioactive material outside of the building. Accordingly, there was no impact to the cultural resources, endangered species, or critical habitats outside of Building 53. The Colorado Department of Public Health and Environment, Radiation Management Unit, was consulted about this EA. The State informed the NRC by letter dated March 6, 2006, that it had no comments on the EA.

III. Finding of No Significant Impact

The NRC staff has prepared this EA in support of the proposed license amendment to release Building 53 for unrestricted use. On the basis of this EA, NRC has concluded that there are no significant environmental impacts from the proposed action, and the license amendment does not warrant the preparation of an environmental impact statement. Accordingly, it has been determined that a Finding of No Significant Impact is appropriate.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

1. NRC, “Generic Environmental Impact Statement in Support of Rulemaking on Radiological Criteria for License Termination of NRC-Licensed Nuclear Facilities,” NUREG-1496, July 1997 (ML042310492, ML042320379, and ML042330385).

2. NRC, “Consolidated NMSS Decommissioning Guidance,” NUREG-1757, Volume 2, September 2003 (ML053260027).

3. Ossinger, Albert, U.S. Environmental Protection Agency, License Amendment Request, August 9, 2004 (ML042510569, ML042570068, ML061000701 [Appendix D has been redacted because it contains confidential laboratory protocols], ML042570073, ML042570076, ML042570077, and ML042570080).

4. NRC Inspection Report 030-08219/05-001, November 14, 2005 (ML053180267).

5. Tarlton, Steve, Colorado Department of Public Health and Environment, “Request for Comments on Draft Environmental Assessment For Decommissioning of Building 53 at Denver Federal Center,” March 6, 2006 (ML060790512).

If you do not have access to ADAMS or if there are problems in accessing the documents located in ADAMS, contact the NRC Public Document Room (PDR) Reference staff at 1-800-397-4209, 301-415-4737, or by e-mail to pdr@nrc.gov.

These documents may also be viewed electronically on public computers located at the NRC's PDR, O 1 F21, One White Flint North, 11555 Rockville Pike, Rockville, MD 20852. The PDR reproduction contractor will copy documents for a fee.

Dated at Arlington, Texas, this 30th day of March, 2006.
For the Nuclear Regulatory Commission.
D. Blair Spitzberg,
Chief, Fuel Cycle & Decommissioning Branch, Division of Nuclear Materials Safety, Region IV.

[FR Doc. E6-5702 Filed 4-17-06; 8:45 am]

BILLING CODE 7590-01-P